DEPARTMENT OF DEFENSE

Office of the Secretary

[Docket ID: DoD-2013-OS-0051]

Proposed Collection; Comment Request

AGENCY: Defense Prisoner of War/Missing Personnel Office, DoD.

ACTION: Notice.

SUMMARY: In compliance with Section 3506(c)(2)(A) of the Paperwork Reduction Act of 1995, the Defense Prisoner of War/Missing Personnel Office announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 19, 2013.

ADDRESSES: You may submit comments, identified by docket number and title, by any of the following methods:

• Federal eRulemaking Portal: http://www.regulations.gov. Follow the instructions for submitting comments.

• Mail: Federal Docket Management System Office, 2nd Floor, East Tower, Suite 02G09, Mark Center Drive, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Prisoner of War/Missing Personnel Office (DPMO), ATTN: Roland Tisdale, 2000 Defense Pentagon, Washington, DC 20301-2000, or call, Roland Tisdale at (703) 699-1168.

Title; Associated Form; and OMB Number: DPMO Family Update Registration; Family Update Registration Form; OMB Control Number 0704-TBD.

Needs and Uses: The information collection requirement is necessary to provide information to family members concerning DPMO progress on missing DoD personnel. Data is used to produce studies and analytical reports furnished as background material to offices and agencies that enunciate and promulgate national policy. The form is optional and used to keep an accurate record of family members who attend family updates; including home addresses, phone numbers or other contact information of the primary next-of-kin, family members, or private citizens who may request information on a missing American or may have information which will help identify remains.

Affected Public: Individuals or Households.

Annual Burden Hours: 54.75 hours.

Number of Respondents: 657.

Responses per Respondent: 1.

Average Burden per Response: 5 minutes.

Frequency: On occasion.

SUPPLEMENTARY INFORMATION:

Summary of Information Collection

Respondents are primary next-of-kin or family members who may request information on a missing American or may have information which will help identify remains. The Family Update Registration Form records address, phone number, email address, relationship to the missing American, and the service/war of the missing. The completed form is kept and used to send out invitations to upcoming Family Updates, “Thank you” letters, and other correspondence associated with the primary next-of-kin and/or family members. In addition, data are used to produce studies and analytical reports furnished as background material to offices and agencies. The completion of this form is optional, yet essential in maintaining accurate records so that DoD may keep families informed of the efforts being made to account for their loved ones.

Dated: May 15, 2013.
Aaron Siegel,
Alternate OSD Federal Register Liaison Officer, Department of Defense.

[FR Doc. 2013-11905 Filed 5-17-13; 8:45 am]

BILLING CODE 5001-06-P